ENVIRONMENTAL PROTECTION AGENCY

40 CFR Part 52

[FL—88 -200227(a); FRL-7486-7 ]

Approval and Promulgation of Implementation Plans

Florida: Revision to Jacksonville, Florida Ozone Air Quality Maintenance Plan

AGENCY: Environmental Protection Agency (EPA).

ACTION: Direct final rule.

SUMMARY: EPA is approving the State Implementation Plan (SIP) revision submitted by the Florida Department of Environmental Protection (DEP) on November 28, 2001, for Jacksonville, Florida (Duval County) 1-hour ozone maintenance plan. More specifically, EPA is approving the state's new Motor Vehicle Emissions Budgets (MVEB) for volatile organic compounds (VOCs) and nitrogen oxides (NOX) for 2005. This submittal updates the maintenance plan by establishing new transportation conformity MVEB for the year 2005, for use by the Metropolitan Planning Organization (MPO). The MVEB represent the VOCs and the NOX emissions currently projected by the MPO for the year 2005, plus a small allocation from the areas' “safety margin” for each pollutant to accommodate any further refinements that the MPO may need to make these projections. This allocation will still maintain the total emissions for the area at or below the attainment level for this maintenance area.

DATES: This direct final rule is effective June 23, 2003 without further notice, unless EPA receives adverse written comment by May 27, 2003. If adverse comment is received, EPA will publish a timely withdrawal of the direct final rule in the Federal Register and inform the public that the rule will not take effect.

ADDRESSES: All comments should be addressed to: Lynorae Benjamin, Air Quality Modeling and Transportation Section; Air, Pesticides, and Toxics Management Division; Region 4, EPA, Air Planning Branch, 61 Forsyth Street, SW., Atlanta, Georgia 30303-8960.

Copies of the documents relative to this action are available for public inspection during normal business hours at the following locations:

Environmental Protection Agency, Region 4, Air Planning Branch, 61 Forsyth Street, SW., Atlanta, Georgia 30303-8960. (Lynorae Benjamin, (404) 562-9040 or Heidi LeSane (404) 562-9035).

Florida Department of Environmental Protection, Air Resource Management Division, Twin Towers Office Building, 2600 Blair Stone Road, Tallahassee, Florida 32399-2400. Persons wanting to examine these documents should make an appointment with the appropriate office at least 24 hours before the visiting day. Reference file FL-88. The Region 4 office may have additional background documents not available at the other locations.

FOR FURTHER INFORMATION CONTACT:

Lynorae Benjamin, Air Quality Modeling and Transportation Section; Air Planning Branch; Air, Pesticides, and Toxics Management Division; Region 4, EPA, Atlanta Federal Center, 61 Forsyth Street, SW., Atlanta, Georgia 30303-8960. Ms. Benjamin's telephone number is (404) 562-9040. She can also be reached via electronic mail at benjamin.lynorae@epa.gov.

SUPPLEMENTARY INFORMATION:

I. Background

Under the Clean Air Act of 1990, the Jacksonville area (i.e., Duval County) was classified as a “transitional” nonattainment area for the 1-hour ozone national ambient air quality standard (NAAQS). The transitional classification was given to the area because it had been designated as nonattainment for the 1-hour ozone NAAQS prior to the 1990 amendment to the Clean Air Act (CAA) but was showing compliance based on 1987 through 1989 data. On June 23, 1993, DEP submitted a request to the EPA to redesignate Duval County as an ozone attainment area under section 107 (d) of the CAA. Along with the redesignation request on August 23, 1994, the DEP submitted as a proposed revision to the SIP to include a ten year (to 2005) ozone air quality maintenance plan for Duval County. The maintenance plan was approved into the SIP on March 6, 1995, and Duval County was redesignated to attainment status with respect to the 1-hour ozone NAAQS.

On December 10, 1999, the DEP submitted a proposed revision to the Duval County 1-hour ozone maintenance plan to remove the emission reduction credits attributable to the Motor Vehicle Inspection Plan (MVIP) from the future year emissions projections contained in that plan. Through the use of updated planning assumptions and the MOBILE5a emissions model, DEP demonstrated that the MVIP was not essential to maintenance of the 1-hour ozone NAAQS for Duval County. In the December 1999, SIP revision, DEP also updated the year 2005 projected ozone precursor emissions in the Duval County ozone maintenance plan based on the latest available information. This action, approved by EPA and effective on September 4, 2001, modified the MVEB that the MPO used to determine transportation conformity.

II. Analysis of the State's Submittal

On November 28, 2001, the State of Florida through the DEP submitted a revision to the Florida SIP. The revision amends the previously approved ten-year ozone maintenance plan for Duval County by substitution of the revised projections for VOC and NOX source emission estimates for 2005. In addition, the DEP also added explicit MVEB to the maintenance plan based on these revised projections including small allocations from the plan's safety margins for VOC and NOX. Approval of the MVEB into the plan by the EPA will allow the MPO to demonstrate conformity for 2005 and beyond. These MVEB are based on the Mobile 5a emissions model.

Section 176(c) of the CAA, 4 2 U.S.C. 7506(c), states that transportation plans, programs and projects must conform to an approved implementation plan. Specifically, the Transportation Conformity Rule and its subsequent amendments require an ozone maintenance area, such as Duval County, to compare projected emissions from cars, trucks and buses on the highway network, to the MVEB established by a maintenance plan (i.e., in the approved SIP). In accordance with the Transportation Conformity rule and its subsequent amendments (i.e., 40 CFR part 93), the State explicitly identifies the MVEB for VOCs and NOX in this submittal. Additionally, the State establishes 2005 as the budget year for both VOC and NOX.

The State revised the SIP and MVEB to remove credits attributable to the MVIP. This action consequently lowered the emissions budgets for Duval County. After consultation with the MPO and the interagency consultation work group for the area, DEP investigated the potential to raise the budget. DEP identified an available safety margin for VOC and NOX. The emissions projected to maintain the area's air quality are consistent with the air quality health standard.

The DEP established MVEB for VOC and NOX in the maintenance plan to allow the MPO to use its currently available data to demonstrate conformity for 2005 and beyond. The MVEB for NOX, therefore, is set at 54.0 tons per day (tpd), including a 0.1 tpd allocation from the plan's safety margin, and the MVEB for VOC is set at 50.0 tpd, including a 7.5 tpd allocation from the plan's safety margin. Under 40 CFR part 93.101 the term safety margin is the difference between the attainment level of emissions (from all sources) and the projected level of emissions (from all sources) in the maintenance plan. The attainment level of emissions is the level of emissions during one of the years in which the area met the air quality health standard. The safety margin credit can be allocated to the transportation sector, however the total emission level must stay below the attainment level.

After the update of the 2005 projections, but prior to these allocations, the VOC safety margin was 41.7 tpd, and the NOX safety margin was 1.3 tpd. After this allocation, the VOC safety margin is 34.2 tpd, and the NOX safety margin is 1.2 tpd. Use of these budget allocations would not cause 2005 emissions to exceed the 1990 attainment-year levels.

Table 1-A and 1-B below illustrate changes made to the Duval County VOC and NOX emissions budgets. The new MVEB for NOX and VOCs are also provided in the tables below.

Table 1-A.—Duval County VOC Emissions 1990 Actual and 2005 Projected
Source category | Tons/day: 1990 | Tons/day: 2005 | MVEB 2005
Stationary Point | 15.60 | 21.16 | n/a
Stationary Area | 51.25 | 39.24 | n/a
On-Road Mobile | 82.49 | 42.49 | 50
Non-Road Mobile | 24.63 | 29.41 | n/a
Biogenic | 126.70 | 126.70 | n/a

Table 1-B.—Duval County NOX Emissions 1990 Actual and 2005 Projected
Source Category | Tons/day: 1990 | Tons/day: 2005 | MVEB 2005
Stationary Point | 101.16 | 98.40 | n/a
Stationary Area | 8.37 | 14.67 | n/a
On-Road Mobile | 61.40 | 53.85 | 54
Non-Road Mobile | 21.07 | 23.74 | n/a
Biogenic | 0.30 | 0.30 | n/a

III. Final Action

EPA is approving the aforementioned revisions to the Florida SIP because they are consistent with the Clean Air Act (CAA) and EPA requirements. EPA is publishing this rule without prior proposal because the Agency views this as a noncontroversial submittal and anticipates no adverse comments. However, in the proposed rules section of this Federal Register publication, EPA is publishing a separate document that will serve as the proposal to approve the SIP revision should adverse comments be filed. This rule will be effective June 23, 2003 without further notice unless the Agency receives adverse comments by May 27, 2003.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on June 23, 2003 and no further action will be taken on the proposed rule. Please note that if we receive adverse comment on an amendment, paragraph, or section of this rule and if that provision may be severed from the remainder of the rule, we may adopt as final those provisions of the rule that are not the subject of an adverse comment.

IV. Statutory and Executive Order Reviews:

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by June 23, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Reporting and recordkeeping requirements, Volatile organic compounds.

Dated: April 15, 2003.
A. Stanley Meiburg,
Acting Regional Administrator, Region 4.

Part 52 of chapter I, title 40, Code of Federal Regulations, is amended as follows:

PART 52—[AMENDED]

1. The authority citation for part 52 continues to read as follows:

Authority: 42.U.S.C. 7401 et seq.

Subpart K—[Amended]

2. Section 52.520, is amended:

a. In paragraph (e) revise entry “Revision to Maintenance Plan for Jacksonville and Southeast Florida Areas” and

b. In paragraph (e) add a new entry at the end of the table for “Revision to Maintenance Plan for Jacksonville, Florida” to read as follows:

§ 52.520 Identification of plan.

* * * * *

(e) * * *

EPA-Approved Florida Non-Regulatory Provisions
Provision | State effective date | EPA Approval date | Federal Register Notice | Explanation
Revision to Maintenance Plan for Southeast Florida Area | 12/10/1999 | 8/2/2001 | 66 FR 40137
* * * * * * *
Revision to Maintenance Plan for Jacksonville, Florida Area | 11/28/2001 | 11/24/03 | [Insert citation of publication] |

[FR Doc. 03-10063 Filed 4-23-03; 8:45 am]

BILLING CODE 6560-50-P